SMALL BUSINESS ADMINISTRATION

[Disaster Declaration #10162]

UTAH Disaster #UT-00004

AGENCY: U.S. Small Business Administration.

ACTION: Notice.

SUMMARY: This is a Notice of the Presidential declaration of a major disaster for public assistance only for the State of Utah (FEMA-1598-DR), dated 08/01/2005.

Incident: Flooding and Landslides.

Incident Period: 04/28/2005 through 06/29/2005.

DATES: Effective Date: 08/01/2005.

Physical Loan Application Deadline Date: 09/30/2005.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 08/01/2005, applications for Private Non-Profit organizations that provide essential services of a governmental nature may file disaster loan applications at the address listed above or other locally announced locations.

The following areas have been determined to be adversely affected by the disaster: Primary Counties: Beaver, Box Elder, Iron, Sevier, Tooele, Uintah, Wasatch, Uintah and Ouray Indian Reservation.

The Interest Rates are:

| Percent
Other (including non-profit organizations) with credit available elsewhere | 4.750.
Businesses and non-profit organizations without credit available elsewhere | 4.000.

The number assigned to this disaster for physical damage is 10162.

(Catalog of Federal Domestic Assistance Number 59008).

Herbert L. Mitchell,
Associate Administrator for Disaster Assistance.

[FR Doc. 05-16418 Filed 8-18-05; 8:45 am]

BILLING CODE 8025-01-P